DEPARTMENT OF DEFENSE

Office of the Secretary

Notice of the Defense Acquisition Performance Assessment Project—Open Meeting; Correction

AGENCY: Department of Defense.

ACTION: Notice; correction.

SUMMARY: The Defense Acquisition Performance Assessment Project published a notice of Open Meeting in the Federal Register of June 23, 2005. The document cited a General Information section that should be removed and incorrect contact telephone numbers.

FOR FURTHER INFORMATION CONTACT: Lt Col Rene Bergeron, (703) 697-1361, rene.Bergeron@pentagon.af.mil.

Correction

In the Federal Register of June 23, 2005, in FR Doc 05-12424, on page 36377, in the middle column, on the bottom of the page, correct the FOR FURTHER INFORMATION CONTACT caption to read:

FOR FURTHER INFORMATION CONTACT: Any member of the public wishing further information concerning this meeting or wishing to submit comments must contact: Lt Col Rene Bergeron, Assistant Director of Staff, Defense Acquisition Performance Assessment Project, 1670 Air Force Pentagon, Rm 4E886, Washington, DC 20330-1670, Telephone: (703) 697-1361, DSN 225-1361, Fax: (703) 693-4303, rene.bergeron@pentagon.af.mil. Interested persons may submit a written statement for consideration by the Panel, preferably via fax. Written statements to the Panel must be directed to the point of contact listed above, received no later than 5 p.m., July 13, 2005.

Dated: June 23, 2005.
Jeannette Owings-Ballard,
OSD Federal Register Liaison Officer, Department of Defense.

[FR Doc. 05-12812 Filed 6-28-05; 8:45 am]

BILLING CODE 5001-06-P